NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by October 19, 2011. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Applicant | Permit application
1. Sam Feola, Director, Raytheon Polar Services Company, 7400 S. Tucson Way, Centennial, CO 80112. | 2012-008.

Activity for Which Permit is Requested

Enter Antarctic Specially Protected Areas. The applicant plans to enter the Antarctic Specially Protected Areas at Beaufort Island (ASPA 105), New College Valley, Cape Bird (ASPA 116), Cape Royds (ASPA 121), Arrival Heights (ASPA 122), Cape Crozier (ASPA 124), Cape Evans (ASPA 155), and Backdoor Bay, Cape Royds (ASPA 157) for the purpose of gathering professional video footage, still photographs, and to interview scientists. Footage, pictures, interviews, and information gathered during site visits to the ASPA's could potentially be used in outreach videos, archived for future use, or be published in the Antarctic Sun, the official online news publication of the U.S. Antarctic Program.

Location

ASPA 105-Beaufort Island, ASPA 116-New College Valley, Cape Bird, ASPA 121-Cape Royds, ASPA 122-Arrival Heights, ASPA 124-Cape Crozier, ASPA 155-Cape Evans, ASPA 157-Backdoor Bay, Cape Royds.

Dates

October 15, 2011 to March 31, 2012.

Nadene G. Kennedy,
Permit Officer, Office of Polar Programs.

[FR Doc. 2011-23852 Filed 9-16-11; 8:45 am]

BILLING CODE 7555-01-P